DEPARTMENT OF TRANSPORTATION

Federal Transit Administration

United We Ride State Coordination Grants Announcement

AGENCY: Federal Transit Administration (FTA), DOT.

ACTION: Notice.

SUMMARY: This notice identifies state agencies selected for United We Ride State Coordination Grants and provides instructions for applying for the grant funds.

EFFECTIVE DATE: State agencies selected for State Coordination Grants may begin application procedures upon receipt of letters from FTA Administrator Jennifer L. Dorn informing them of their selection. Applicants should submit their electronic grant applications to FTA by February 28, 2005. Grant activities should be complete, with all funds drawn down from the grant, by February 28, 2006.

FOR FURTHER INFORMATION CONTACT: Applicants may contact the appropriate FTA Regional Administrator (see Appendix A) for grant-specific issues; or Elizabeth Solomon, 202-366-0242, for general information about the United We Ride State Coordination Grants.

SUPPLEMENTARY INFORMATION: Those states selected for funding were found to meet the objective of the United We Ride initiative which is to implement the President's Executive Order on Human Service Transportation Coordination by breaking down barriers among Federal programs to enhance coordination of human service transportation programs for individuals with disabilities, older adults, and lower income populations who depend on transportation services to access employment, health, and other community services. The purpose of the State Coordination Grants is to increase the overall capacity of states to deliver comprehensive and coordinated human services transportation that meets the needs of transportation-disadvantaged individuals and to increase cross-agency collaboration to facilitate coordination, enhance services, and address redundancies of programs and services. These grants may be used to assist states in conducting a comprehensive state assessment using the United We Ride Framework for Action; developing a comprehensive state action plan for coordinating human services transportation; or, for those states that already have a comprehensive state action plan, to implement one or more of the elements identified in the Framework for Action.

Grant Selections. The solicitation announcement for the United We Ride state coordination grants called for applications to be submitted by August 23, 2004. FTA received 45 proposals, all of which were evaluated and approved by an interagency team of reviewers. Grants will be made for between $19,000 and $35,000. No local match is required for these grants. Of the applicants, 38 are state DOTs and the remaining seven are various other state agencies. We encourage these other state applicants to partner with the state DOTs for submittal of grant applications.

State | Lead agency | Amount
Alabama | Alabama Department of Senior Services | $35,000
Alaska | Alaska Department of Transportation and Public Facilities | 35,000
Arizona | Arizona Department of Transportation | 35,000
Arkansas | Arkansas State Highway and Transportation Department | 19,000
California | California Department of Transportation | 34,027
Colorado | Colorado Department of Transportation | 35,000
Connecticut | Connecticut Department of Transportation | 35,000
Delaware | Delaware Transit Corporation | 35,000
District of Columbia | Washington DC Department of Transportation | 35,000
Florida | Florida Commission for the Transportation Disadvantaged | 35,000
Georgia | Georgia Department of Transportation | 34,750
Idaho | Idaho Department of Transportation | 35,000
Illinois | Illinois Department of Transportation | 35,000
Iowa | Iowa Department of Transportation | 30,000
Kansas | Kansas Department of Transportation | 35,000
Kentucky | Kentucky Transportation Cabinet | 35,000
Louisiana | Louisiana Department of Transportation and Development | 34,984
Maine | Maine Department of Transportation | 35,000
Maryland | Maryland Transit Administration | 35,000
Massachusetts | Massachusetts Human Service Transportation Office | 35,000
Michigan | Michigan Department of Transportation | 35,000
Minnesota | Minnesota Department of Transportation | 35,000
Mississippi | Mississippi Division of Medicaid | 35,000
Missouri | Missouri Department of Transportation | 35,000
Montana | Office of the Governor | 25,450
Nebraska | Nebraska Department of Roads | 35,000
Nevada | Nevada Department of Transportation | 30,000
New Hampshire | New Hampshire Department of Transportation | 35,000
New Jersey | New Jersey Transit Corporation | 35,000
New Mexico | New Mexico State Highway and Transportation Department | 35,000
New York | New York Department of Transportation | 35,000
North Carolina | North Carolina Department of Health and Human Services | 35,000
Ohio | Ohio Department of Transportation | 28,700
Oklahoma | Oklahoma Department of Transportation | 35,000
Oregon | Oregon Department of Transportation | 35,000
Pennsylvania | Pennsylvania Department of Transportation | 35,000
South Carolina | South Carolina Department of Transportation | 35,000
Tennessee | Tennessee Department of Transportation | 35,000
Texas | Texas Department of Transportation | 35,000
Utah | Utah Department of Transportation | 35,000
Vermont | Vermont Agency of Transportation | 35,000
Virgin Islands | Virgin Islands Department of Public Works | 35,000
Virginia | Virginia Department of Rail and Public Transportation | 35,000
West Virginia | West Virginia Division of Public Transit | 35,000
Wisconsin | Wisconsin Bureau of Aging and Long Term Care | 29,816

Eligible Costs. Funds may be used to support personnel for planning, training, coordination, and other administrative activities required to enhance coordination among and across agencies within the state. Supplies, small equipment (computers, etc.), and travel are also eligible expenses.

Ineligible Costs. Funds may not be used for provision of transportation services, such as for capital costs for large equipment, e.g. vehicles, or operating costs.

Planning Requirements. Because the State Coordination grants are financed with planning and research funds, they are exempt from inclusion in the Metropolitan Transportation Improvement Programs (TIPs) and the State Transportation Improvement Programs (STIPs). However, FTA encourages States to share information on their proposed work activities with affected local officials. In urbanized areas, States are encouraged to coordinate with Metropolitan Planning Organizations (MPOs), including possible reference of their work activities in the Unified Planning Work Program. In non-urbanized areas, States are encouraged to share information on proposed State Coordination Grant activities with local officials through each State's required consultation process with non-metropolitan local officials regarding participation in statewide transportation planning and programming. FTA regards the involvement of local officials as critical to achieving effective coordination of human services transportation.

Pre-Award Authority. Costs may be incurred for activities in the approved proposal prior to FTA approval. However, in exercising pre-award authority, applicants must comply with all Federal requirements. Failure to do so will render costs ineligible for FTA financial assistance. Applicants must consult the appropriate FTA regional office regarding the eligibility of the project for future FTA funds or the applicability of the conditions and Federal requirements. Pre-award spending authority is provided effective as of November 9, 2004, the date on which letters of project selection were sent to applicants.

Certification and Assurances. In accordance with 49 U.S.C. 5323(n), certifications and assurances have been compiled for the various FTA programs. Before FTA may award a Federal grant, each successful applicant must provide to FTA all certifications and assurances required by Federal laws and regulations applicable to itself and its project. A state providing certifications and assurances on behalf of its prospective subrecipients should obtain sufficient documentation from those subrecipients needed to provide informed certifications and assurances. All of the Federal requirements that apply to State Coordination grant applicants are included in those applicable to all grantees, so Category 1, Required of Each Applicant, is the category that State Coordination Grant applicants will select. If FTA already has the State applicant's signed certifications and assurances for the current fiscal year and it has provided adequate certifications and assurances to qualify for a State Coordination Grant, the State applicant need not submit separate certifications and assurances for assistance. FTA's (FY) 2005 Certifications and Assurances Notice was published in the Federal Register on October 26, 2004. A copy of that Federal Register notice can be found on the FTA Web site at http://www.fta.dot.gov/legal/federal_register/2004/12174_16165_ENG_HTML.htm. The document is also available on the Main Menu of the Transportation Electronic Award and Management (TEAM) Web site. Applicants that need further assistance should contact the appropriate FTA regional office (see Appendix A) for further information.

Applying for Funds. Applicants for State Coordination funds will submit their applications electronically through TEAM, the Web-based FTA electronic system that FTA uses for grant award and management. The content of these grant applications must reflect the approved proposal. This application does not require Department of Labor Certification. Regional Office (Appendix A) staff can advise how specific laws, regulations, Federal Register notices, and Executive Orders may be obtained.

Payment Procedures. All FTA payments to grantees are made through the Electronic Clearing House Operation (ECHO) system. New grantees can work with regional staff to obtain an ECHO account number and a password for ECHO access. Grantees may transmit an ECHO drawdown request message to FTA in order to receive funds necessary to meet immediate cash disbursement needs. The ECHO system processes the grantee's message and if no problems are noted by FTA, the amount requested is transmitted to Treasury. Treasury electronically transfers the payment to the grantee's financial institution within 24 hours.

Reporting Requirements. By October 31 each year, the state should submit to FTA a milestone progress report and a financial status report in TEAM for each active grant covering the 12-month period ending September 30 or the period from when the grant was awarded through September 30, and, upon completion of the grant project, submit a final report. These reports are intended to meet at least the minimal program information needs at the regional and national levels. Copies of planning documents or products developed from grant activities, if any, can be submitted as attachments in the TEAM system. Grantees must also submit the Overall State Self-Assessment of the Framework for Action. Grantees can: access this document at http://www.fta.dot.gov/ccam/framework_states.doc; copy the Overall State Self-Assessment page near the end of the document; and provide, in text, ratings for each of the six sections. The document can then be saved as a text document and submitted as an attachment in TEAM with an annual or final report.

Data Collection. United We Ride is targeted to simplify access to transportation services, reduce duplication and increase cost efficiencies. Too often, information to measure our progress in coordinating human service transportation and achieving cost and service results is lacking. FTA will be providing guidance to assist grantees with collecting data regarding expenditures, costs and benefits of coordinated transportation services.

Issued on November 30, 2004.
Jennifer L. Dorn,
Administrator.

Appendix A—FTA Regional Offices

Region I

Connecticut, Maine, Massachusetts, New Hampshire, Rhode Island, and Vermont. Richard Doyle, FTA Regional Administrator, Volpe National Transportation Systems Center, Kendall Square, 55 Broadway, Suite 920, Cambridge, MA 02142-1093, (617) 494-2055.

Region II

New Jersey, New York, and Virgin Islands. Letitia Thompson, FTA Regional Administrator, One Bowling Green, Room 429, New York, NY 10004-1415, (212) 668-2170.

Region III

Delaware, District of Columbia, Maryland, Pennsylvania, Virginia, and West Virginia. Susan Borinsky, FTA Regional Administrator, 1760 Market Street, Suite 500, Philadelphia, PA 19103-4124, (215) 656-7100.

Region IV

Alabama, Florida, Georgia, Kentucky, Mississippi, North Carolina, Puerto Rico, South Carolina, and Tennessee. Hiram Walker, FTA Regional Administrator, 61 Forsyth Street, SW., Suite 17T50, Atlanta, GA 30303, (404) 562-3500.

Region V

Illinois, Indiana, Michigan, Minnesota, Ohio, and Wisconsin. Joel Ettinger, FTA Regional Administrator, 200 West Adams Street, Suite 2410, Chicago, IL 60606-5232, (312) 353-2789.

Region VI

Arkansas, Louisiana, New Mexico, Oklahoma, and Texas. Robert Patrick, FTA Regional Administrator, 819 Taylor Street, Room 8A36, Ft. Worth, TX 76102, (817) 978-0550.

Region VII

Iowa, Kansas, Missouri, and Nebraska. Mokhtee Ahmad, FTA Regional Administrator, 901 Locust Street, Suite 404, Kansas City, MO 64106, (816) 329-3920.

Region VIII

Colorado, Montana, North Dakota, South Dakota, Utah, and Wyoming. Lee Waddleton, FTA Regional Administrator, 12300 West Dakota, Suite 310, Lakewood, CO 80228-2583, (720) 963-3300.

Region IX

American Samoa, Arizona, California, Guam, Hawaii, Nevada, and the Northern Mariana Islands. Leslie Rogers, FTA Regional Administrator, 201 Mission Street, Suite 2210, San Francisco, CA 94105-1839, (415) 744-3133.

Region X

Alaska, Idaho, Oregon, and Washington. Richard F. Krochalis, FTA Regional Administrator, Jackson Federal Building, 915 Second Avenue, Suite 3142, Seattle, WA 98174-1002, (206) 220-7954.

[FR Doc. 04-26751 Filed 12-3-04; 8:45 am]

BILLING CODE 4910-57-P